DEPARTMENT OF COMMERCE

Foreign-Trade Zones Board

[B-40-2018]

Foreign-Trade Zone 9—Honolulu, Hawaii; Application for Reorganization Under Alternative Site Framework

An application has been submitted to the Foreign-Trade Zones (FTZ) Board by the State of Hawaii, grantee of FTZ 9, requesting authority to reorganize the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on June 18, 2018.

FTZ 9 was approved by the FTZ Board on February 15, 1965 (Board Order 65, 30 FR 2377, February 20, 1965); relocated on April 16, 1982 (Board Order 188, 47 FR 18014, April 27, 1982); and expanded on August 21, 1987 (Board Order 359, 52 FR 33458, September 3, 1987), November 16, 1988 (Board Order 399, 53 FR 47842, November 28, 1988), June 9, 1992 (Board Orders 580 and 581, 57 FR 27020, June 17, 1992), June 19, 1995 (Board Order 751, 60 FR 33187, June 27, 1995) and September 6, 2006 (Board Order 1477, 71 FR 54610, September 18, 2006).

The current zone includes the following sites: Site 1 (17 acres)—Pier 2, 521 Ala Moana, Honolulu; Site 2 (1,033 acres)—James Campbell Industrial Park, Kalaeloa Boulevard and Malakole Street, Ewa, Oahu; Site 3 (109 acres)—Mililani Technology Park, 100 Kahelu Avenue, Mililani, Oahu; Site 4 (60 acres)—Maui Research & Technology Park, 1300 N. Holopono Street, Kihei, Maui; Site 5 (31 acres)—Hilo Industrial Park, 135 Operations Street, Hilo, Hawaii; Site 6 (27 acres)—Hawaii Fueling Facilities Corporation, 3201 Aolele Street, Honolulu, Oahu; Site 7 (7 acres)—Unicold Corporation, 3140 Ualena Street, Honolulu, Oahu; Site 8 (10 acres)—Hawaii Convention Center, 1801 Kalakaua Avenue, Honolulu, Oahu; and, Site 9 (870 acres)—Natural Energy Lab of Hawaii Authority, 73-4460 Queen Kaahumanu Highway #101, Kailua-Kona, Hawaii.

The grantee's proposed service area under the ASF would be the City and County of Honolulu, County of Hawaii, County of Kauai, and County of Maui, Hawaii, as described in the application. If approved, the grantee would be able to serve sites throughout the service area based on companies' needs for FTZ designation. The application indicates that the proposed service area is within and adjacent to the Hilo and Kona (Hawaii), Kahului and Kihei (Maui), Honolulu (Oahu); and, Nawiliwili-Port Allen (Kauai) U.S. Customs and Border Protection ports of entry.

The applicant is requesting authority to reorganize its zone to include existing Sites 2, 3, 4, 5 and 9 as “magnet” sites and existing Sites 1, 6, 7 and 8 as usage-driven sites. The ASF allows for the possible exemption of one magnet site from the “sunset” time limits that generally apply to sites under the ASF, and the applicant proposes that Site 5 be so exempted. No additional ASF subzones/usage-driven sites are being requested at this time. The application would have no impact on FTZ 9's previously authorized subzones.

In accordance with the FTZ Board's regulations, Christopher Kemp of the FTZ Staff is designated examiner to evaluate and analyze the facts and information presented in the application and case record and to report findings and recommendations to the FTZ Board.

Public comment is invited from interested parties. Submissions shall be addressed to the FTZ Board's Executive Secretary at the address below. The closing period for their receipt is August 24, 2018. Rebuttal comments in response to material submitted during the foregoing period may be submitted during the subsequent 15-day period to September 10, 2018.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz. For further information, contact Christopher Kemp at Christopher.Kemp@trade.gov or (202) 482-0862.

Dated: June 19, 2018.
Andrew McGilvray,
Executive Secretary.

[FR Doc. 2018-13538 Filed 6-22-18; 8:45 am]

BILLING CODE 3510-DS-P